DEPARTMENT OF AGRICULTURE

7 CFR Part 1b, 372, 520, 650, 799, 1970, and 3407

36 CFR Part 220

[USDA-2025-0008]

RIN 0503-AA86

National Environmental Policy Act

AGENCY: Agriculture (USDA).

ACTION: Interim final rule; correction and correcting amendment.

SUMMARY: This document corrects technical errors in the interim final rule that appeared in the July 3, 2025, Federal Register, titled “National Environmental Policy Act.”

DATES: Effective July 18, 2025.

SUPPLEMENTARY INFORMATION:

Correction

In rule document 2025-12326, appearing on pages 29632 through 29674 in the issue of Thursday, July 3, 2025, make the following correction:

On page 29632 in the first column, third line from the top in the heading, “2407” is corrected to read “3407”.

Correcting Amendment

Accordingly, 7 CFR part 1b is corrected by making the following correcting amendment:

1. The authority citation for part 1b continues to read:

Authority: 5 U.S.C. 301; 42 U.S.C. 4321 et seq.; E.O. 11514, 3 CFR, 1966-1970 Comp., p. 902, as amended by E.O. 11991, 3 CFR, 1978 Comp., p. 123; E.O. 12114, 3 CFR, 1980 Comp., p. 356; 40 CFR 1507.3.

§ 1b.4 [Corrected]

2. Amend § 1b.4 by redesignating the second paragraph (c)(30)(xiv) as (c)(30)(xix).

Tera Graelyn,
Environmental Review Specialist, Office of the Secretary.

[FR Doc. 2025-13505 Filed 7-17-25; 8:45 am]

BILLING CODE 3410-90-P